LEGAL SERVICES CORPORATION

Sunshine Act Meeting

DATE AND TIME: The Legal Services Corporation's Board of Directors and its six committees will meet April 15-16, 2012, in the order set out below. On Sunday, April 15, the first meeting will commence at 2:15 p.m., Eastern Daylight Time, and each meeting thereafter will commence promptly upon adjournment of the immediately preceding meeting. On Monday, April 16, the Promotion & Provision for the Delivery of Legal Services Committee meeting will commence at 9:20 a.m., Eastern Daylight Time, followed by the Operations & Regulations Committee meeting. Upon conclusion of the Board's scheduled luncheon and a briefing by the Office of Inspector General, the Audit Committee meeting will take place, followed by the Board of Directors meeting.

LOCATION: F. William McCalpin Conference Center, Legal Services Corporation Headquarters, 3333 K Street NW., Washington DC 20007.

PUBLIC OBSERVATION: Unless otherwise noted herein, the Board and all committee meetings will be open to public observation. Members of the public who are unable to attend in person but wish to listen to the public proceedings may do so by following the telephone call-in directions provided below but are asked to keep their telephones muted to eliminate background noises. From time to time, the presiding Chair may solicit comments from the public.

CALL-IN DIRECTIONS FOR OPEN SESSIONS:

• Call toll-free number: 1-866-451-4981;

• When prompted, enter the following numeric pass code: 5907707348

• When connected to the call, please immediately “MUTE” your telephone.

Meeting Schedule
| Time: *
Sunday, April 15, 2012:
1. Institutional Advancement Committee | 2:15 p.m.
2. Board of Directors
3. Finance Committee
4. Governance & Performance Review Committee
Monday, April 16, 2012:
1. Promotion & Provision for the Delivery of Legal Services Committee | 9:20 a.m.
2. Operations & Regulations Committee
3. Audit Committee
4. Board of Directors
* Please note that all times in this notice are in the Eastern Daylight Time.

STATUS OF MEETING: Open, except as noted below.

Board of Directors—Open, except that, upon a vote of the Board of Directors, a portion of the meeting may be closed to the public to hear briefings from management and LSC's Inspector General, and to consider and act on the General Counsel's report on potential and pending litigation involving LSC.**

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. The transcript of any portions of the closed session falling within the relevant provisions of the Government in the Sunshine Act, 5 U.S.C. 552b(c)(10), and the corresponding provision of the Legal Services Corporation's implementing regulations, 45 CFR 1622.5(h), will not be available for public inspection. A copy of the General Counsel's Certification that in his opinion the closing is authorized by law will be available upon request.

MATTERS TO BE CONSIDERED:

April 15, 2012

Institutional Advancement Committee

Agenda

1. Approval of agenda

2. Approval of minutes of the Committee's meeting of January 21, 2012

3. Discussion of Committee 2012 goals

4. Discussion of Committee members' self-evaluations

5. Public comment

6. Consider and act on other business

7. Consider and act on adjournment of meeting

Board of Directors

Agenda

Open Session

1. Pledge of Allegiance

2. Approval of agenda

3. Consider and act on a draft Strategic Plan for the Corporation

4. Consider and act on motion to recess the meeting until April 16th

Finance Committee

Agenda

1. Approval of agenda

2. Approval of the minutes of the Committee's meeting of January 20, 2012

3. Consider and act on the Revised Operating Budget for FY 2012 and recommend Resolution 2012-XXX to the full Board

David Richardson, Treasurer/Comptroller

4. Presentation on LSC's Financial Reports for the first five months of FY 2012

David Richardson, Treasurer/Comptroller

5. Report on FY 2012 appropriations process

Carol Bergman, Director, Office of Government Relations and Public Affairs

6. Discussion with Management regarding process and timetable for FY 2014 budget “mark”

7. Public comment

8. Consider and act on other business

9. Consider and act on motion to adjourn the meeting

Governance & Performance Review Committee

Agenda

1. Approval of agenda

2. Approval of minutes of the Committee's meeting of January 20, 2012

3. Approval of minutes of the Committee's telephonic meeting of February 15, 2012

4. Staff report on progress on implementation of GAO recommendations

5. Consider and act on the evaluation of officers of the Corporation

Victor Fortuno, Vice President for Legal Affairs, General Counsel & Corporate Secretary

David Richardson, Treasurer/Comptroller

6. Consider and act on other business

7. Public Comment

8. Consider and act on motion to adjourn the meeting

Monday, April 16, 2012

Promotion & Provision for the Delivery of Legal Services Committee

Agenda

1. Approval of Agenda

2. Approval of minutes of the Committee's telephonic meeting of March 9, 2012

3. Panel Presentation on the work of the District of Columbia Access to Justice Commission

Moderator—Peter B. Edelman, Professor of Law, Georgetown University Law Center, Chair of the District of Columbia Access to Justice Commission

Judge Anna Blackburne-Rigsby, District of Columbia Court of Appeals

Andrew Marks, Partner, Crowell & Moring

Patricia Mullahy-Fugere, Executive Director of the Washington Legal Clinic for the Homeless

4. Consider and act on Management's list of suggested topics for future Committee meetings

5. Public comment

6. Consider and act on other business

7. Consider and act on motion to adjourn the meeting

Operations & Regulations Committee

1. Approval of agenda

2. Approval of minutes of the Committee's telephonic meeting of February 29, 2012

3. Staff report on open rulemaking on enforcement mechanisms

Mattie Cohan, Office of Legal Affairs

4. Consider and act on Board policy on LSC promulgations

Mattie Cohan, Office of Legal Affairs

5. Consider and act on Rulemaking Options Paper on possible amendment on LSC's regulation on Subgrants, 45 CFR part 1627

6. Staff report on Board policies and protocols

7. Consider and act on revisions to Board's contributions protocol

8. Public comment

9. Consider and act on other business

10. Consider and act on motion to adjourn the meeting

Audit Committee

Agenda

1. Approval of agenda

2. Approval of minutes of the Committee's telephonic meeting of March 15, 2012

3. Review of Audit Committee charter and consider and act on possible changes thereto

4. Quarterly review of 403(b) plan performance

Traci Higgins, Director, Office of Human Resources

5. Briefing by Inspector General

Jeff Schanz, Inspector General

6. Briefing on Travel Procedures

David Richardson, Treasurer/Comptroller

7. Public Comment

8. Consider and act on other business

9. Consider and act on motion to adjourn the meeting

Board of Directors

Agenda

Resumption of April 15, 2012 Board of Directors Open Session Meeting

Open Session

5. Approval of Minutes of the Board's Open Session Annual meeting of January 21, 2012

6. Chairman's Report

7. Members' Reports

8. President's Report

9. Inspector General's Report

10. Consider and act on the report of the Promotion & Provision for the Delivery of Legal Services Committee

11. Consider and act on the report of the Finance Committee

12. Consider and act on the report of the Audit Committee

13. Consider and act on the report of the Operations & Regulations Committee

14. Consider and act on the report of the Governance and Performance Review Committee

15. Consider and act on the report of the Institutional Advancement Committee

16. Consider and act on resolution regarding new Ethics Officer designation

17. Public comment

18. Consider and act on other business

19. Consider and act on whether to authorize an executive session of the Board to address items listed below, under Closed Session

Closed Session

20. Approval of Minutes of the Board's Closed Session Annual meeting of January 21, 2012

21. Briefing by Management

22. Briefing by the Inspector General

23. Consider and act on General Counsel's report on potential and pending litigation involving LSC

24. Consider and act on motion to adjourn the meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: April 4, 2012.
Victor M. Fortuno,
Vice President & General Counsel.

[FR Doc. 2012-8541 Filed 4-5-12; 4:15 pm]

BILLING CODE 7050-01-P